DEPARTMENT OF THE TREASURY

Office of the Comptroller of the Currency

[Docket No. 00-23]

Strategic Plan

AGENCY: Office of the Comptroller of the Currency, Treasury.

ACTION: Notice and request for comment.

SUMMARY: The Office of the Comptroller of the Currency (OCC) hereby gives notice that a draft of its strategic plan is available at http://www.occ.treas.gov/spln2000.pdf. Certain high level aspects of this strategic plan have been summarized in the strategic plan of the Department of the Treasury which was sent to Congress on September 29, 2000, in compliance with the Government Performance and Results Act. Copies of the OCC draft strategic plan have also been submitted to committees of Congress for consultation purposes. This OCC draft strategic plan will help guide the operations of OCC, and may be adjusted through interim adjustments in annual performance plans sent to Congress.

DATES: Comments must be received on or before November 30, 2000.

ADDRESSES: Comments should be sent to Office of the Comptroller of the Currency, 250 E Street, SW., Third floor, Attention: Docket #00-23, Washington, DC 20219. You may submit comments electronically to regs.comments@occ.treas.gov.

FOR FURTHER INFORMATION CONTACT: Sheila Zukor, Assistant Chief Financial Officer, Planning and Budget, Office of the Comptroller of the Currency, (202) 874-4518.

Dated: October 24, 2000.
Paul R. Gentille,
Deputy Chief Financial Officer.

[FR Doc. 00-27911 Filed 10-30-00; 8:45 am]

BILLING CODE 4810-33-P